DEPARTMENT OF TRANSPORTATION

Federal Aviation Administration

Noise Exposure Map Notice; Receipt of Noise Compatibility Program and Request for Review, Shreveport Regional Airport, Shreveport, LA

AGENCY: Federal Aviation Administration, DOT.

ACTION: Notice.

SUMMARY: The Federal Aviation Administration (FAA) announces its determination that the noise exposure maps submitted by Shreveport Airport Authority for the Shreveport Regional Airport under the provisions of 49 U.S.C. 47501 et seq. (Aviation Safety and Noise Abatement Act) and 14 CFR part 150 are in compliance with applicable requirements. The FAA also announces that it is reviewing a proposed noise compatibility program that was submitted for the Shreveport Regional Airport under part 150 in conjunction with the noise exposure map, and that this program will be approved or disapproved on or before July 11, 2007.

DATES: Effective Date: The effective date of the FAA's determination on the noise exposure maps and of the start of its review of the associated noise compatibility program is January 12, 2007. The public comment periods ends March 13, 2007.

FOR FURTHER INFORMATION CONTACT: Mr. Tim Tandy, Federal Aviation Administration, ASW-630, Fort Worth, TX 76193-0630 at (817) 222-5635. Comments on the proposed noise compatibility program should also be submitted to the above office.

SUPPLEMENTARY INFORMATION: This notice announces that the FAA finds that the noise exposure maps submitted for Shreveport Regional Airport are in compliance with applicable requirements of Part 150, effective January 12, 2007. Further, FAA is reviewing a proposed noise compatibility program for that airport which will be approved or disapproved on or before July 11, 2007. This notice also announces the availability of this program for public review and comment.

Under 49 U.S.C. 47503 (the Aviation Safety and Noise Abatement Act, hereinafter referred to as “The Act”), an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport.

An airport operator who has submitted noise exposure maps that are found by FAA to be in compliance with the requirements of Federal Aviation Regulations (FAR) part 150, promulgated pursuant to the Act, may submit a noise compatibility program for FAA approval which sets forth the measures the operator has taken or proposes to take to reduce existing non-compatible uses and prevent the introduction of additional non-compatible uses.

The Shreveport Airport Authority submitted to the FAA on May 21, 2004, noise exposure maps, descriptions and other documentation that were produced during 2004 FAR part 150 Noise Exposure Maps Update, Shreveport Regional Airport. It was requested that the FAA review this material as the noise exposure maps, as described in section 47503 of the Act, and that the noise mitigation measures, to be implemented jointly by the airport and surrounding communities, be approved as a noise compatibility program under section 47504 of the Act.

The FAA has completed its review of the noise exposure maps and related descriptions submitted by Shreveport Airport Authority. The specific documentation determined to constitute the noise exposure maps includes the following from the 2004 FAR part 150 Noise Exposure Maps Update, Shreveport Regional Airport:

2004 Noise Exposure Map; 2009 Unabated Noise Exposure Map; Exhibit 1D, 2004 NEM Update Study Area; Exhibit 1E, Current Land Use; Table 2.2, Air Traffic Summary—Shreveport Regional Airport; Table 2.3, Summarized Activity at Shreveport Regional Airport; Figure 2.1, Shreveport Regional Airport total Operations (1975-2003); Figure 2.2, Shreveport Regional Airport Passenger Enplanements (1972-2003); Figure 2.3, Shreveport Regional Airport Air Mail (lbs); Figure 2.4, Shreveport Regional Airport Freight (lbs); Table 2.4, Commercial Air Carrier Operations Summary; Table 2.5, Commercial Arrivals at Shreveport Regional Airport; Table 2.6, Commercial Departures at Shreveport Regional Airport; Table 2.7, Commercial Carrier Aircraft Types; Table 2.8, Air Cargo Arrivals; Table 2.9, Air Cargo Departures; Figure 2-5, Commercial Jet Aircraft Approach Profiles; Figure 2-6, Commercial Prop-Jet Approach Profiles; Figure 2-7, Freight Jet Aircraft Approach Profiles; Figure 2-8, Commercial Jet Aircraft Departure Profiles; Figure 2-9, Commercial Prop-Jet Aircraft Departure Profiles; Figure 2-10, Freight Jet Aircraft Departure Profiles; Figure 2-11, Commercial Jet Noise Levels—Approach; Figure 2-12, Commercial Jet Noise Levels—Departure; Figure 2-13, Commercial Prop-Jet Noise Levels—Approach and Departure; Table 4.1, INM Aircraft Identifiers; Table 4.2, Runway 14 Vectored Departure Flight Tracks; Table 4.3, Runway 32 Vectored Departure Flight Tracks; Table 4.4, Runway 05 Vectored Departure Flight Tracks; Table 4.5, Runway 23 Vectored Departure Flight Tracks; Table 4.6, Vectored Arrival Tracks; Table 4.7, Vectored Touch-and-Go Track—Runway 14; Table 4.8, Commercial Air Carrier and Freight Arrivals; Table 4.9, Commercial Air Carrier and Freight Departures; Table 4.10, Commercial Carrier Departure and Freight Track Usage; Table 4.11, Commercial Carrier Departure and Freight Track Usage; Exhibit 4A, Flight Tracks; Table 5.5, INM 6.1 Modeled Daily Flight Operations; Exhibit 5A, 2004 Noise Contours and Airport/Political Boundaries; Exhibit 5B, 2004 Noise Contours and 1992 NCP; Exhibit 5C, Land Use Inside 2004 Noise Contours; Exhibit 5D, Land Use Inside 2004 Noise Contours (North End Detail); Exhibit 5E, Land Use Inside 2004 Noise Contours (Runway 05/23 Detail); Exhibit 5F, Land Use Inside 2004 Noise Contours (South End Detail); Exhibit 5G, 2009 Unabated Noise Contours and Airport/Political Boundaries; Exhibit 5H, 2009 Unabated Noise Contours and 1992 NCP; Exhibit 5I, Land Use Inside 2009 Unabated Noise Contours; Exhibit 5J, Land Use Inside 2009 Unabated Noise Contours (North End Detail); Exhibit 5K, Land Use Inside 2009 Unabated Noise Contours (South End Detail); Exhibit 5L, Land Use Inside 2009 Unabated Noise Contours (Runway 05/23 Detail); Exhibit 5M, Comparison of 2004 and 2009 Noise Contours; Table 6-2, Summary of Noise Monitoring Date; Table 6-3, Noise Monitor Sites Ranked by Triangulated Distance from the Aircraft; Table 6-4, Noise Monitor Sites Ranked by Distance from the Ground Path of the Aircraft; Figure 6.2, Noise Monitoring Data vs. INM Prediction; Figure 6.3, Noise Exposure vs. Distance from Aircraft; Figure 6.4, Noise Exposure vs. Distance from Aircraft Ground Path; Table 6.5, Shreveport Regional Airport Air Carrier/Air Taxi/Commuter Schedule; Table 6.6, Air Cargo Arrivals/Departures; Exhibit 6A, Noise Monitoring Locations.

The FAA has determined that these maps for the Shreveport Regional Airport are in compliance with applicable requirements. This determination is effective on January 12, 2007. The FAA's determination on an airport operator's noise exposure maps is limited to a finding that the maps were developed in accordance with the procedures contained in Appendix A of FAR part 150. Such determination does not constitute approval of the applicant's data, information or plans, or constitute a commitment to approve a noise compatibility program or to fund the implementation of that program.

If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under § 150.21 of FAR part 150, that the statutorily required consultation has been accomplished.

The FAA has formally received the noise compatibility program for Shreveport Regional Airport, also effective on January 12, 2007. Preliminary review of the submitted material indicates that it conforms to the requirements for the submittal of noise compatibility programs, but that further review will be necessary prior to approval or disapproval of the program. The formal review period, limited by law to a maximum of 180 days, will be completed on or before July 11, 2007.

The FAA's detailed evaluation will be conducted under the provisions of 14 CFR part 150, § 150.33. The primary considerations in the evaluation process are whether the proposed measures may reduce the level of aviation safety, create an undue burden on interstate or foreign commerce, or be reasonably consistent with obtaining the goal of reducing existing non-compatible land uses and preventing the introduction of additional non-compatible land uses.

Interested persons are invited to comment on the proposed program with specific reference to these factors. All comments, other than those properly addressed to local land use authorities, will be considered by the FAA to the extent practicable. Copies of the noise exposure maps, the FAA's evaluation of the maps, and the proposed noise compatibility program are available for examination at the following locations:

Federal Aviation Administration, Louisiana/New Mexico Airports Development Office, Room 692, 2601 Meacham Boulevard, Fort Worth, TX 76137-4298; Director of Airports, Shreveport Airport Authority, 5103 Hollywood Avenue, Suite 300, Shreveport, LA 71109.

Questions may be directed to the individual named above under the heading, FOR FURTHER INFORMATION CONTACT.

Issued in Fort Worth, Texas, January 12, 2007.
Kelvin L. Solco,
Manager, Airports Division.

[FR Doc. 07-249 Filed 1-19-07; 8:45 am]

BILLING CODE 4910-13-M